OVERSEAS PRIVATE INVESTMENT CORPORATION

Sunshine Act Notice; Public Hearing Cancellation, May 25, 2011

OPIC's Sunshine Act notice of its Public Hearing in Conjunction with each Board meeting was published in the Federal Register (Volume 76, Number 90, Page 27103) on May 10, 2011. No requests were received to provide testimony or submit written statements for the record; therefore, OPIC's public hearing scheduled for 2 PM, May 25, 2011 in conjunction with OPIC's June 2, 2011 Board of Directors meeting has been cancelled.

CONTACT PERSON FOR INFORMATION: Information on the hearing cancellation may be obtained from Connie M. Downs at (202) 336-8438, or via e-mail at Connie.Downs@opic.gov.

Dated: May 17, 2011.
Connie M. Downs,
OPIC Corporate Secretary.

[FR Doc. 2011-12402 Filed 5-17-11; 11:15 am]

BILLING CODE 3210-01-P